DEPARTMENT OF LABOR

Employment and Training Administration

[TA-W-59,247; TA-W-59,247A]

Saint-Gobain Advanced Ceramics Microelectronics Division, Sanborn, NY; Saint-Gobain Advanced Ceramics Microelectronics Division, East Granby, CT; Determinations Regarding Eligibility To Apply for Worker Adjustment Assistance and Alternative Trade Adjustment Assistance

In accordance with section 223 of the Trade Act of 1974 (19 U.S.C. 2273), as amended, the Department of Labor herein presents the results of its investigation regarding certification of eligibility to apply for worker adjustment assistance.

In order to make an affirmative determination and issue a certification of eligibility to apply for Trade Adjustment Assistance, the group eligibility requirements in either paragraph (a)(2)(A) or (a)(2)(B) of section 222 of the Trade Act must be met. It is determined in the case of Saint-Gobain Advanced Ceramics, Microelectronics Division, Sanborn, New York that the requirements of (a)(2)(A) of section 222 have been met.

The investigation was initiated on April 20, 2006 in response to a petition filed by a company official on behalf of workers of Saint-Gobain Advanced Ceramics, Microelectronics Division, Sanborn, New York (TA-W-59,247) and Saint-Gobain Advanced Ceramics, Microelectronics Division, East Granby, Connecticut (TA-W-59,247A). The workers at the Sanborn facility produce aluminum nitride substrates, while the workers at the East Granby facility produce silicon-nitrate bearings.

With regard to the Sanborn, New York facility, the investigation revealed that sales, production and employment at the facility all declined absolutely upon its shutdown, which occurred on February 28, 2006.

The Department of Labor surveyed the subject facility's primary customers regarding purchases of aluminum nitride substrates in 2004, 2005 and during the period of January through March of 2006. The survey revealed that from 2004 to 2005 when the subject fir's sales declined, respondents became increasingly reliant on imports of aluminum nitride substrates. Customer imports also were sustained with the closure of the plant in 2006.

With regard to the East Granby, Connecticut location, the petitioner has requested that the petition be withdrawn. Consequently, the investigation has been terminated.

In addition, in accordance with section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of section 246 of the Trade Act must be met. The Department has determined in the case of the Sanborn, New York facility that the requirements of section 246 have been met.

A significant number of workers at the firm are age 50 or over and possess skills that are not easily transferable. Competitive conditions within the industry are adverse.

In order for the Department to issue a certification of eligibility to apply for ATAA, the worker group must be certified eligible to apply for trade adjustment assistance (TAA). Since the workers of the East Granby, Connecticut facility are denied eligibility to apply for TAA, the workers cannot be certified eligible for ATAA.

Conclusion

After careful review of the facts obtained in the investigation, I determine that increases of imports of articles like or directly competitive with aluminum nitride substrates produced at Saint-Gobain Advanced Ceramics, Microelectronics Division, Sanborn, New York contributed importantly to the total or partial separation of workers and to the decline in sales or production at that firm or subdivision. In accordance with the provisions of the Act, I make the following certification:

All workers of Saint-Gobain Advanced Ceramics, Microelectronics Division, Sanborn, New York who became totally or partially separated from employment on or after April 16, 2005 through two years from the date of certification are eligible to apply for adjustment assistance under Section 223 of the Trade Act of 1974, and are also eligible to apply for alternative trade adjustment assistance under Section 246 of the Trade Act of 1974.

The petition for Saint-Gobain Advanced Ceramics, Microelectronics Division, East Granby, Connecticut has been withdrawn. Consequently, that investigation has been terminated.

Signed in Washington, DC, this 5th day of June 2006.
Richard Church,
Certifying Officer, Division of Trade Adjustment Assistance.

[FR Doc. E6-9904 Filed 6-21-06; 8:45 am]

BILLING CODE 4510-30-P